DEPARTMENT OF HOMELAND SECURITY

National Communications System

[Docket No. NCS-2008-0001]

National Security Telecommunications Advisory Committee

AGENCY: National Communications System, DHS.

ACTION: Notice of Partially Closed Advisory Committee Meeting.

SUMMARY: The President's National Security Telecommunications Advisory Committee (NSTAC) will meet in a partially closed session.

DATES: Thursday, May 1, 2008, from 1:15 p.m. until 5 p.m.

ADDRESSES: The meeting will take place at the U.S. Chamber of Commerce, 1615 H St., NW., Washington DC. If you desire meeting materials, contact Ms. Sue Daage at (703) 235-5526 or by e-mail at sue.daage@dhs.gov. Please submit your comments by May 8, 2008. Comments must be identified by NCS-2008-0001 and may be submitted by one of the following methods:

• Federal eRulemaking Portal: http://www.regulations.gov. Follow the instructions for submitting comments.

• E-mail: NSTAC1@dhs.gov. Include docket number in the subject line of the message.

• Mail: Office of the Manager, National Communications System (N5), Department of Homeland Security, Washington, DC 20529.

• Fax: 1-866-466-5370.

Instructions: All submissions received must include the words “Department of Homeland Security” and NCS-2008-0001, the docket number for this action. Comments received will be posted without alteration at http://www.regulations.gov, including any personal information provided.

Docket: For access to the docket to read background documents or comments received by the NSTAC, go to http://www.regulations.gov.

FOR FURTHER INFORMATION CONTACT: Ms. Kiesha Gebreyes, Acting Chief, Customer Service Division at (703) 235-5525, email: Kiesha.Gebreyes@dhs.gov or write the Deputy Manager, National Communications System, Department of Homeland Security, CS&C/NCS/N5.

SUPPLEMENTARY INFORMATION: The NSTAC advises the President on issues and problems related to implementing national security and emergency preparedness telecommunications policy. Notice of this meeting is given under the Federal Advisory Committee Act (FACA), Public Law 92-463, as amended (5 U.S.C. App. 1 et seq.).

At the upcoming meeting, between 1:15 p.m. and 2:30 p.m., the NSTAC will receive comments from government stakeholders, and discuss NSTAC work on legislation and regulation, research and development, and outreach. This portion of the meeting will be open to the public.

Between 2:30 p.m. and 5 p.m., the NSTAC will receive briefings from the Department of Defense, the Acting Assistant to the President for Homeland Security and Counterterrorism, and the Department of Treasury. The NSTAC will discuss impacts of the global economy on communications, cyber security and network security. This portion of the meeting will be closed to the public.

Basis For Closure: Briefings from the Department of Defense, the Acting Assistant to the President for Homeland Security and Counterterrorism, and the Department of Treasury, as well as discussions on cyber security and network security will likely involve sensitive infrastructure information concerning system threats and explicit physical/cyber vulnerabilities related to current communications capabilities. Public disclosure of such information would heighten awareness of potential vulnerabilities. Pursuant to Section 10(d) of the Federal Advisory Committee Act, Public Law 92-463, as amended (5 U.S.C. App. 1 et seq.), the Department has determined that this discussion will concern matters which, if disclosed, would be likely to significantly frustrate the implementation of a proposed agency action. Accordingly, the relevant portion of this meeting will be closed to the public pursuant to the authority set forth in 5 U.S.C. 552b(c)(4).

Lawrence Hale,
Acting Director, National Communications System.

[FR Doc. E8-7074 Filed 4-4-08; 8:45 am]

BILLING CODE 4410-10-P